DEPARTMENT OF TRANSPORTATION

Federal Railroad Administration

[Docket Number FRA-2020-0016]

Petition for Waiver of Compliance

Under part 211 of title 49 Code of Federal Regulations (CFR), this provides the public notice that on January 7, 2020, the Northeast Illinois Railroad Corporation (Metra) and the Northern Indiana Commuter Transportation District (NICTD) petitioned the Federal Railroad Administration (FRA) for a waiver of compliance from certain provisions of the Federal Railroad safety regulations contained at 49 CFR 238.309(b)(3). FRA assigned the petition Docket Number FRA-2020-0016.

Metra and NICTD seek relief from the requirement to clean, repair, and test every 1,840 days (5 years) for their “KB-HL1” air brake system to study the feasibility of clean, repair, and test intervals extended beyond 5 years. Specifically, this petition serves as an update to a previously approved FRA waiver contained at Docket Number FRA-2006-24562, now expired, which allowed a 5-year (1,840 days) clean, repair, and test interval, instead of the previous 2-year requirement. Due to the increased size of the fleets and the continued high level of reliability, performance, and safety of the KB-HL-1 air brake system, petitioners request to restart the relief as an age exploration waiver, to allow intervals beyond 5 years.

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by April 13, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2020-03984 Filed 2-26-20; 8:45 am]

BILLING CODE 4910-06-P